DEPARTMENT OF HEALTH AND HUMAN SERVICES

National Biodefense Science Board: Call for Nominees

AGENCY: Office of the Assistant Secretary for Preparedness and Response (ASPR), Department of Health and Human Services (HHS).

ACTION: Notice.

SUMMARY: The Office of the Assistant Secretary for Preparedness and Response (ASPR), in the Department of Health and Human Services (HHS) seeks applications from qualified individuals for membership on the National Biodefense Science Board (NBSB) or (Board). Terms of five members expire December 31, 2019; therefore, the HHS Secretary (Secretary) will appoint five new voting members. Applicants to those positions may be nominated by a relevant organization or may nominate themselves based on their expertise within the following stakeholder groups: Industry, academia, health care consumer organizations, and organizations representing other appropriate stakeholders. Please visit the NBSB website at https://www.phe.gov/nbsb for all application submission information, additional information regarding the qualifications expected for applicants, and application instructions.

DATES: Nomination Period: The nomination period is from April 15, 2019, to June 15, 2019, at 11:59 p.m. (EST).

FOR FURTHER INFORMATION CONTACT: CDR Christopher Perdue, MD, MPH, Designated Federal Official, NBSB, ASPR, HHS, office: 202-401-5837, email address: christopher.perdue@hhs.gov.

SUPPLEMENTARY INFORMATION: Pursuant to section 319M of the Public Health Service Act, HHS has established the NBSB to provide expert advice and guidance to the Secretary on scientific, technical, and other matters of special interest to HHS regarding current and future chemical, biological, nuclear, and radiological agents, whether naturally occurring, accidental, or deliberate. The Board may also provide advice and guidance to the Secretary and/or the ASPR on other matters related to public health emergency preparedness and response.

Description of Duties: The Board advises the Secretary and/or ASPR on current and future trends, challenges, and opportunities presented by advances in biological and life sciences, biotechnology, and genetic engineering with respect to threats posed by naturally occurring infectious diseases and chemical, biological, radiological, and nuclear agents. At the request of the Secretary and/or ASPR, the Board reviews and considers information and findings received from the working groups established under 42 U.S.C. 247d-7f(b). At the request of the Secretary and/or ASPR, the Board provides recommendations and findings for expanded, intensified, and coordinated biodefense research and development activities. The Secretary and/or ASPR may assign additional advisory duties concerning public health emergency preparedness and response at his/her discretion.

Structure: The Board consists of 13 voting members, including the chairperson; additionally, there may be non-voting ex officio members. Pursuant to 42 U.S.C. 247d-7f(a), the Secretary appoints members and the chairperson from among the nation's preeminent scientific, public health, and medical experts, as follows: (a) Such federal officials as the Secretary determines are necessary to support the functions of the Board; (b) four individuals from the pharmaceutical, biotechnology, and device industries; (c) four individuals representing academia; and, (d) five other members as appointed by the Secretary, one of whom is a practicing health care professional, one of whom is from an organization representing health care consumers, one of whom has pediatric subject matter expertise, and one of whom is a state, tribal, territorial, or local public health official. The Secretary appoints members who are not full-time or permanent part-time federal employees as non-pay special government employees.

Dated: March 27, 2019.
Robert P. Kadlec,
Assistant Secretary for Preparedness and Response.

[FR Doc. 2019-06329 Filed 4-1-19; 8:45 am]

BILLING CODE 4150-37-P